DEPARTMENT OF ENERGY

Federal Energy Regulatory Commission

[Project Nos. 14176-000, 14188-000, 14200-000]

Riverbank Hydro No. 19 LLC; Lock Hydro Friends Fund XXXIV; FFP Project 59 LLC; Notice of Competing Preliminary Permit Applications Accepted for Filing and Soliciting Comments, Motions To Intervene, and Competing Applications

On May 2, 2011, Riverbank Hydro No. 19 LLC (Riverbank), and on May 3, 2011, Lock Hydro Friends Fund XXXIV (Lock Hydro), and FFP Project 59 LLC (FFP 59) filed preliminary permit applications, pursuant to section 4(f) of the Federal Power Act, proposing to study the feasibility of a hydropower project at the U.S. Army Corps of Engineers' (Corps) Kentucky River Lock & Dam No. 8, located on the Kentucky River, in Jessamine and Garrard Counties, Kentucky. The sole purpose of a preliminary permit, if issued, is to grant the permit holder priority to file a license application during the permit term. A preliminary permit does not authorize the permit holder to perform any land-disturbing activities or otherwise enter upon lands or waters owned by others without the owners' express permission.

Riverbank's Project No. 14176-000 would consist of: (1) A forebay; (2) an intake structure; (3) a powerhouse containing one generating unit with a total capacity of 10.0 megawatts (MW); (4) a tailrace structure; and (5) an 8.2-mile-long, 25 kilo-volt (kV) transmission line. The project would have an estimated average annual generation of 33.0 gigawatt-hours (GWh), and operate run-of-river utilizing surplus water from the Kentucky River Lock & Dam No. 8, as directed by the Corps.

Applicant Contact: Mr. Kuo-Bao Tong, Riverbank Power Corporation, Royal Bank Plaza, South Tower, P.O. Box 166, 200 Bay Street, Suite 3230, Toronto, ON, Canada M5J2J4. (416) 861-0092 x 154.

Lock Hydro's Project No. 14188-000 would consist of: (1) One lock frame modules, the frame module will be 75-feet long, 20-feet-high and contain four generating units with a total combined capacity of 2.0 MW; (2) a new switchyard containing a transformer; and (3) a proposed 3.0-mile-long, 115 kV transmission line to an existing distribution line. The proposed project would have an average annual generation of 8.766 GWh, and operate run-of-river utilizing surplus water from the Kentucky River Lock & Dam No. 8, as directed by the Corps.

Applicant Contact: Mr. Wayne F. Krouse, Hydro Green Energy, 5090 Richmond Avenue #390, Houston, TX 77056. (877) 556-6566 x 709.

FFP 59's Project No. 14200-000 would consist of: (1) An 300-foot-long, 90-foot-wide approach channel; (2) a powerhouse, located on the northeastern side of the dam, containing two generating units with a total capacity of 6.8 MW; (3) a 300-foot-long, 220-foot-wide tailrace; (4) a 4.16/25 KV substation; and (5) a 0.25-mile-long, 25 kV transmission line. The proposed project would have an average annual generation of 27.2 GWh, and operate run-of-river utilizing surplus water from the Kentucky River Lock & Dam No. 8, as directed by the Corps.

Applicant Contact: Ms. Ramya Swaminathan, Free Flow Power Corp., 239 Causeway Street, Suite 300, Boston, MA 02114. (978) 283-2822.

FERC Contact: Michael Spencer, michael.spencer@ferc.gov, (202) 502-6093.

Deadline for filing comments, motions to intervene, competing applications (without notices of intent), or notices of intent to file competing applications: 60 days from the issuance of this notice. Competing applications and notices of intent must meet the requirements of 18 CFR 4.36. Comments, motions to intervene, notices of intent, and competing applications may be filed electronically via the Internet. See 18 CFR 385.2001(a)(1)(iii) and the instructions on the Commission's Web site http://www.ferc.gov/docs-filing/efiling.asp. Commenters can submit brief comments up to 6,000 characters, without prior registration, using the eComment system at http://www.ferc.gov/docs-filing/ecomment.asp. You must include your name and contact information at the end of your comments. For assistance, please contact FERC Online Support. Although the Commission strongly encourages electronic filing, documents may also be paper-filed. To paper-file, mail an original and seven copies to: Kimberly D. Bose, Secretary, Federal Energy Regulatory Commission, 888 First Street, NE., Washington, DC 20426.

More information about this project, including a copy of the application, can be viewed or printed on the “eLibrary” link of the Commission's Web site at http://www.ferc.gov/docs-filing/elibrary.asp. Enter the docket number (P-14176-000, P-14188-000, or P-14200-000) in the docket number field to access the document. For assistance, contact FERC Online Support.

Dated: October 25, 2011.
Kimberly D. Bose,
Secretary.

[FR Doc. 2011-28108 Filed 10-28-11; 8:45 am]

BILLING CODE 6717-01-P